FEDERAL COMMUNICATIONS COMMISSION

47 CFR Parts 1, 2, 15, 25, 27, 74, 78, and 101

[WT Docket No. 20-443; GN Docket No. 22-352; DA 23-671; FR ID 163388]

Expanding Flexible Use of the 12.2-12.7 GHz Band; Expanding Use of the 12.7-13.25 GHz Band for Mobile Broadband or Other Expanded Use

AGENCY: Federal Communications Commission.

ACTION: Proposed rule; denial of further extension of comment period.

SUMMARY: In this document, the Commission denies the request of the Satellite Industry Association (SIA), together with Eutelsat S.A., Hispasat, S.A, Intelsat License LLC, Ovzon LLC, SES Americom, Inc., Space Exploration Technologies Corp., and WorldVu Satellites Limited (collectively the Joint Requestors) for a further extension of the comment and reply comment deadlines for the Further Notice of Proposed Rulemaking (FNPRM) and Notice of Proposed Rulemaking (NRPM) that were published as proposed rules in the Federal Register.

DATES: A request for extension of the FNPRM and NPRM comment and reply comment deadlines, filed on August 4, 2023, was denied on August 8, 2023. The deadlines for filing comments and reply comments (in response to the FNPRM and NPRM) continues to be August 9, 2023, and September 8, 2023, respectively, as published at 88 FR 43502 (July 10, 2023) and 88 FR 43938 (July 10, 2023).

ADDRESSES: Federal Communications Commission, 45 L Street NE, Washington, DC 20554.

FOR FURTHER INFORMATION CONTACT: Simon Banyai of the Wireless Telecommunications Bureau, at simon.banyai@fcc.gov or (202) 418-1443.

SUPPLEMENTARY INFORMATION: This is a summary of the Commission's Order, WT Docket No. 20-443; GN Docket No. 22-352; DA 23-671, adopted and released on August 8, 2023. The full text of this document is available at https://docs.fcc.gov/public/attachments/DA-23-671A1.pdf. Text and Microsoft Word formats are also available (replace “.pdf” in the link with “.txt” or “.docx”, respectively). Alternative formats are available for people with disabilities (braille, large print, electronic files, audio format), by sending an email to fcc504@fcc.gov or call the Commission's Consumer and Governmental Affairs Bureau at (202) 418-0530 (voice), (202) 418-0432 (TTY).

Synopsis

1. On May 19, 2023, the Commission released a Report and Order and Further Notice of Proposed Rulemaking (in WT Docket No. 20-443) and Notice of Proposed Rulemaking and Order (in GN Docket No. 22-352).¹ In the Further Notice of Proposed Rulemaking (FNPRM) the Commission further investigates the potential to expand terrestrial fixed use or to permit unlicensed use in the 500 megahertz of mid-band spectrum at 12.2-12.7 GHz (12.2 GHz band). In the Notice of Proposed Rulemaking (NPRM), to further its efforts to make spectrum available for terrestrial mobile service or other expanded use, the Commission proposes to repurpose some or all of the 12.7-13.25 GHz (12.7 GHz band) for mobile broadband or other expanded use. Comments in response to the FNPRM and the NPRM are due on August 9, 2023, while reply comments are due on September 8, 2023.

¹ See Expanding Flexible Use of the 12.2-12.7 GHz Band; Expanding Use of the 12.7-13.25 GHz Band for Mobile Broadband or Other Expanded Use, WT Docket No. 20-443, GN Docket No. 22-352, FCC 23-36, Report and Order and Further Notice of Proposed Rulemaking and Notice of Proposed Rulemaking and Order, 2023 WL 3686032 (May 19, 2023) (FCC 23-36). The FNPRM and the NPRM were subsequently published separately in the Federal Register. See Expanding Flexible Use of the 12.2-12.7 GHz Band, 88 FR 43502 (July 10, 2023) (FNPRM); Expanding Use of the 12.7-13.25 GHz Band for Mobile Broadband or Other Expanded Use, 88 FR 43938 (July 10, 2023) (NPRM).

2. On August 4, 2023, the Satellite Industry Association (SIA), together with Eutelsat S.A., Hispasat, S.A, Intelsat License LLC, Ovzon LLC, SES Americom, Inc., Space Exploration Technologies Corp., and WorldVu Satellites Limited (collectively the Joint Requestors) filed a Joint Request for Extension of the Filing Deadline (Joint Request), seeking a 45-day extension of the comment (and reply) dates for both the NPRM and the FNPRM.² The Joint Requestors argue that “questions posed in [the FNPRM and] the NPRM have implications for the long-term interests of the mobile, satellite, broadcasting, and unlicensed industries, and therefore they require significant and thoughtful analysis that merits providing additional time for comments and reply comments.” ³ Furthermore, they argue “[a]dditional time would benefit satellite operators in particular, who face another comment deadline only two days before [the FNPRM's and] the NPRM's deadline in a major spectrum-sharing proceeding that also requires significant attention and lengthy analysis.” ⁴ They assert that good cause exists to grant the instant extension request because the FNPRM and the NPRM involve complex technical questions and policy issues with the potential to impact “a diverse set of terrestrial (licensed and possibly unlicensed) and satellite communications systems,” and that “[a]n extension of time will allow interested parties and their experts the opportunity to better analyze the questions posed in [the FNPRM and] the NPRM, fostering a collaborative spectrum approach and allowing them to prepare more thorough responses.” ⁵

² Joint Request for Extension of Comment Deadline of the Satellite Industry Association (SIA), together with Eutelsat S.A., Hispasat, S.A, Intelsat License LLC, Ovzon LLC, SES Americom, Inc., Space Exploration Technologies Corp., and WorldVu Satellites Limited, WT Docket No. 20-443, GN Docket No. 22-352 (filed Aug. 4, 2023) (Joint Request).

³ Id. at 2.

⁴ Id.

⁵ Id. (quoting FCC 23-36 at para. 1).

3. With this Order, the Wireless Telecommunications Bureau denies the Joint Request. As set forth in section 1.46 of the Commission's rules, extensions of time shall not be routinely granted.⁶ Moreover, Commission rulemaking proceedings often have implications for the long-term interests of multiple interested industries. The Commission therefore finds nothing sufficiently unique or unusual that would warrant significant extensions of the comment deadlines in this instance.⁷ The Commission is similarly unpersuaded based on the record before us that extensions of the reply comment deadlines—set for 30 days after the initial comment deadline—are warranted. Finally, note that although the FNPRM and the NPRM were released on May 19, 2023, and were thus publicly available for almost three months prior to the deadline for initial comments, the Joint Request was filed just days before that deadline, without any explanation about why it was not filed sooner. Because the Joint Request was filed less than 7 days before the August 9, 2023, deadline for filing comments,⁸ and because the Commission finds no justification for extending that deadline, the Commission declines to do so. The deadline for filing initial comments in response to the FNPRM and the NPRM remains August 9, 2023.⁹

⁶ 47 CFR 1.46(a). The Commission also notes that the Joint Request was untimely filed less than 7 days prior to the August 9, 2023, comment filing deadlines. See 47 CFR 1.46(b) (Motions for extension of time in which to file . . . comments filed in response to notice of proposed rulemaking . . . shall be filed at least 7 days before the filing date.).

⁷ Accord Shortwave Modernization Coalition Petition for Rulemaking to Amend the Commission's Rules to Allow Fixed, Long-Distance, Non-Voice Communications Above 2 MHz and Below 25 MHz, Order, 2023 WL 4930836, at *1, para. 3 & n.16 (WTB July 31, 2023) (citing 47 CFR 1.46(a)); Amendment of Rules Governing Ultra-Wideband Devices and Systems, RM-11844, Order Denying Extension of Time to File Comments and Reply Comments, 34 FCC Rcd 7176, 7177, para. 3 (OET 2019).

⁸ 47 CFR 1.46(b).

⁹ See supra note 6. Under 47 CFR 1.46(b), comments need not be filed until 2 business days after the denial of a timely motion for extension of time.

Ordering Clause

4. Accordingly, it is ordered that, pursuant to section 4(i) of the Communications Act of 1934, as amended, 47 U.S.C. 154(i), and §§ 0.131, 0.331, and 1.46 of the Commission's rules, 47 CFR 0.131, 0.331, and 1.46, the Joint Request for Extension of Comment Deadline filed by the Satellite Industry Association, together with Eutelsat S.A., Hispasat, S.A, Intelsat License LLC, Ovzon LLC, SES Americom, Inc., Space Exploration Technologies Corp., and WorldVu Satellites Limited, on August 4, 2023, is denied.

Federal Communications Commission.
Blaise Scinto,
Chief, Broadband Division, Wireless Telecommunications Bureau.

[FR Doc. 2023-17579 Filed 8-16-23; 8:45 am]

BILLING CODE 6712-01-P